FEDERAL TRADE COMMISSION

16 CFR Part 455

RIN 3084-AB05

Used Motor Vehicle Trade Regulation Rule

AGENCY: Federal Trade Commission (“FTC” or “Commission”).

ACTION: Extension of comment period.

SUMMARY: In a November 28, 2014, Supplemental Notice of Proposed Rulemaking (“SNPRM”), the FTC proposed further amendments to the Used Motor Vehicle Trade Regulation Rule (“Rule” or “Used Car Rule”) following a review of public comments concerning its December 2012 Notice of Proposed Rulemaking (“NPRM”). In response to a December 31, 2014, request, the Commission is extending the comment period announced in the November 2014 SNPRM from January 30, 2015, to March 17, 2015.

DATES: Comments must be received on or before March 17, 2015.

ADDRESSES: Interested parties may file a comment at https://ftcpublic.commentworks.com/ftc/usedcarrulesnprm online or on paper, by following the instructions in the Request for Comment part of the SUPPLEMENTARY INFORMATION section below. Write “Used Car Rule Regulatory Review, 16 CFR Part 455, Project No. P087604,” on your comment, and file your comment online at https://ftcpublic.commentworks.com/ftc/usedcarrulesnprm by following the instructions on the Web-based form. If you prefer to file your comment on paper, write “Used Car Rule Regulatory Review, 16 CFR Part 455, Project No. P087604,” on your comment, and on the envelope, and mail your comment to the following address: Federal Trade Commission, Office of the Secretary, 600 Pennsylvania Avenue NW., Suite CC-5610 (Annex A), Washington, DC 20580, or deliver your comment to the following address: Federal Trade Commission, Office of the Secretary, Constitution Center, 400 7th Street SW., 5th Floor, Suite 5610 (Annex A), Washington, DC 20024. This document, and public records related to the FTC's regulatory review, are also available at that address and at www.ftc.gov.

FOR FURTHER INFORMATION CONTACT: John C. Hallerud, (312) 960-5634, Attorney, Midwest Region, Federal Trade Commission, 55 West Monroe Street, Suite 1825, Chicago, IL 60603.

SUPPLEMENTARY INFORMATION: The Commission is extending the comment period for its November 2014 SNPRM to March 17, 2015. The Used Car Rule requires dealers to display a window sticker called a “Buyers Guide” containing warranty and other information on used cars offered for sale. In December 2012, the Commission issued an NPRM proposing several amendments to the Rule and revisions to the Buyers Guide,¹ and, in November 2014, the Commission issued an SNPRM seeking comments on further proposed amendments.² The SNPRM comment period was scheduled to end on January 30, 2015.

¹ 77 FR 74746 (Dec. 17, 2012).

² 79 FR 70804 (Nov. 28, 2014).

In its 2012 NPRM, the Commission proposed adding a statement to the Buyers Guide that describes the availability of vehicle history reports and directs consumers to an FTC Web site containing more information, and changing the Buyers Guide description of an “As Is” sale in which a dealer offers to sell a used vehicle without a warranty. In the November 2014 SNPRM, the Commission requested additional comments on proposed amendments that would require dealers to indicate on the Buyers Guide whether they have obtained a vehicle history report on an individual vehicle and, if so, to provide a copy to consumers who request one; revise the Buyers Guide statement describing an “As Is” sale; move boxes to the face of the Buyers Guide where dealers can indicate whether “non-dealer” warranties apply to a vehicle; and place a statement, in Spanish, on the face of the English language Buyers Guide advising Spanish-speaking consumers to ask for the Buyers Guide in Spanish if they cannot read it in English.

In a December 31, 2014, letter, the National Automobile Dealers Association, a national association of new franchise vehicle dealers, requested that the Commission extend the comment period by ninety days. The Commission agrees that extending the comment period to allow interested parties adequate time to address issues raised by the SNPRM will facilitate a more complete record, but believes that a forty-five day extension is sufficient.

You can file a comment online or on paper. For the Commission to consider your comment, we must receive it on or before March 17, 2015. Write “Used Car Rule Regulatory Review, 16 CFR Part 455, Project No. P087604” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, such as medical records or other individually identifiable health information. In addition, do not include any “[t]rade secret or any commercial or financial information which is . . . privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you must follow the procedure explained in FTC Rule 4.9(c), 16 CFR 4.9(c). ³ Your comment will be kept confidential only if the FTC General Counsel grants your request in accordance with the law and the public interest.

³ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/usedcarrulesnprm by following the instructions on the Web-based form. If this document appears at http://www.regulations.gov/#!home, you also may file a comment through that Web site.

If you prefer to file your comment on paper, write “Used Car Regulatory Review, 16 CFR Part 455, Project No. P087604” on your comment and on the envelope, and mail it to the following address: Federal Trade Commission, Office of the Secretary, 600 Pennsylvania Avenue NW., Suite CC-5610 (Annex A), Washington, DC 20580, or deliver your comment to the following address: Federal Trade Commission, Office of the Secretary, Constitution Center, 400 7th Street SW., 5th Floor, Suite 5610 (Annex A), Washington, DC 20024. If possible, submit your paper comment to the Commission by courier or overnight service.

Visit the Commission Web site at http://www.ftc.gov to read this document and the news release describing it. The FTC Act and other laws that the Commission administers permit the collection of public comments to consider and use in this proceeding as appropriate. The Commission will consider all timely and responsive public comments that it receives on or before March 17, 2015. For information on the Commission's privacy policy, including routine uses permitted by the Privacy Act, see http://www.ftc.gov/ftc/privacy.htm.

Comments on any proposed recordkeeping, disclosure, or reporting requirements subject to review under the Paperwork Reduction Act (“PRA”) should additionally be submitted to OMB. If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Therefore, comments instead should be sent by facsimile to (202) 395-5806.

By direction of the Commission.
Donald S. Clark,
Secretary.

[FR Doc. 2015-01517 Filed 1-27-15; 8:45 am]

BILLING CODE 6750-01-P